DEPARTMENT OF AGRICULTURE

Forest Service

Notice of Idaho Panhandle Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Idaho Panhandle National Forest's Idaho Panhandle Resource Advisory Committee will meet Friday, November 21, 2003 at 9:30 a.m. in Coeur d'Alene, Idaho for a business meeting. The business meeting is open to the public.

DATES: November 21, 2003.

ADDRESSES: The meeting location is the Idaho Panhandle National Forests' Supervisor's Office, located at 3815 Schreiber Way, Coeur d'Alene, Idaho 83815.

FOR FURTHER INFORMATION CONTACT: Ranotta K. McNair, Forest Supervisor and Designated Federal Official, at (208) 765-7369.

SUPPLEMENTARY INFORMATION: The meeting agenda will focus on reviewing project proposals for fiscal year 2004 and recommending funding for projects during the business meeting. The public forum begins at 1 p.m.

Dated: November 4, 2003.
Ranotta K. McNair,
Forest Supervisor.

[FR Doc. 03-28158 Filed 11-7-03; 8:45 am]

BILLING CODE 3410-11-M